DEPARTMENT OF THE INTERIOR

Bureau of Land Management

[UTU 2679]

Public Land Order No. 7720; Partial Revocation and Modification of Public Land Order No. 4291; Utah

AGENCY: Bureau of Land Management, Interior.

ACTION: Public Land Order.

SUMMARY: This order revokes a Public Land Order insofar as it affects 50 acres of National Forest System land withdrawn from mining on behalf of the Department of Agriculture to protect the Splash Dam Recreation Area and also opens that land to mining. This order also modifies the same Public Land Order to correct errors in the legal land descriptions for the Grandview and Spirit Lake Recreation Areas.

DATES: Effective Date: January 16, 2009.

FOR FURTHER INFORMATION CONTACT: Rhonda Flynn, BLM Utah State Office, 440 West 200 South, Suite 500, Salt Lake City, Utah 84101-1345, 801-539-4132.

SUPPLEMENTARY INFORMATION: The Forest Service has determined that the Splash Dam Recreation Area land no longer needs to be withdrawn and has requested the revocation. The legal land description for the Grandview Recreation Area was incorrectly stated and the Spirit Lake Recreation Area was unsurveyed when Public Land Order No. 4291 was issued.

Order

By virtue of the authority vested in the Secretary of the Interior by Section 204 of the Federal Land Policy and Management Act of 1976, 43 U.S.C. 1714 (2000), it is ordered as follows:

1. Public Land Order No. 4291 (32 FR 14155 (1967)), which withdrew National Forest System lands from appropriation under the mining laws in aid of programs of the Department of Agriculture, is hereby revoked insofar as it affects the following described lands:

Ashley National Forest

Uintah Special Meridian

Splash Dam Recreation Area

T. 2 N., R. 8 W.,

Sec. 18, S½SE¼SW¼ and SW¼SW¼SE¼;

Sec. 19, N½NE¼NW¼.

The area described contains 50 acres in Duchesne County.

2. The legal description for those lands remaining withdrawn by Public Land Order No. 4291 (32 FR 14155 (1967)), is hereby modified to read as follows:

Ashley National Forest

(a) Spirit Lake Recreation Area

Salt Lake Meridian

T. 1 N., R. 17 E.,

Sec. 3, SW¼SW¼SE¼;

Sec. 10, W½NW¼NE¼, NW¼SW¼NE¼, E½NE¼NW¼, SE¼SW¼NW¼, and SE¼NW¼.

The area described contains 110 acres in Daggett and Summit Counties.

(b) Grandview Recreation Area

Uintah Special Meridian

T. 2 N., R. 8 W.,

Sec. 17, W½NW¼SW¼;

Sec. 18, SE¼NE¼SE¼.

The area described contains 30 acres in Duchesne County.

3. At 10 a.m. on January 16, 2009, the lands described in Paragraph 1 of this order shall be opened to location and entry under the United States mining laws, subject to valid existing rights, the provisions of existing withdrawals, other segregations of record, and the requirements of applicable law. Appropriation of land described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: November 14, 2008.
C. Stephen Allred,
Assistant Secretary—Land and Minerals Management.

[FR Doc. E8-29907 Filed 12-16-08; 8:45 am]

BILLING CODE 3410-11-P